DEPARTMENT OF THE TREASURY

Office of the Comptroller of the Currency

Agency Information Collection Activities: Proposed Information Collection; Comment Request

AGENCY: Office of the Comptroller of the Currency, Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The OCC is soliciting comment concerning its information collection titled, “International Regulation—Part 28.”

DATES: Comments must be received by March 20, 2012.

ADDRESSES: Communications Division, Office of the Comptroller of the Currency, Public Information Room, Mailstop 2-3, Attention: 1557-0102, 250 E Street SW., Washington, DC 20219. In addition, comments may be sent by fax to (202) 874-5274, or by electronic mail to regs.comments@occ.treas.gov. You can inspect and photocopy the comments at the OCC, 250 E Street SW., Washington, DC 20219. You can make an appointment to inspect the comments by calling (202) 874-4700.

Additionally, you should send a copy of your comments to OCC Desk Officer, 1557-0102, by mail to U.S. Office of Management and Budget, 725, 17th Street NW., #10235, Washington, DC 20503, or by fax to (202) 395-6974.

FOR FURTHER INFORMATION CONTACT: You can request additional information or a copy of the collection from Mary H. Gottlieb, or Ira L. Mills, OCC Clearance Officers, (202) 874-5090, or (202) 874-6055, Legislative and Regulatory Activities Division, Office of the Comptroller of the Currency, 250 E Street SW., Washington, DC 20219.

SUPPLEMENTARY INFORMATION: The OCC is proposing to extend OMB approval of the following information collection without change:

Title: International Regulation—Part 28.

OMB Number: 1557-0102.

Description: This submission covers an existing regulation and involves no change to the regulation or to the information collection requirements. The OCC requests only that OMB extend its approval of the information collection.

12 CFR Part 28 contains the following collections of information:

12 CFR 28.3 Filing Requirements for Foreign Operations of a National Bank—Notice Requirement A national bank shall notify the OCC when it:

• Files an application, notice, or report with the FRB to establish or open a foreign branch, or acquire or divest of an interest in, or close, an Edge corporation, Agreement corporation, foreign bank, or other foreign organization.

• Opens a foreign branch, and no application or notice is required by the FRB for such transaction.

In practice, the OCC has also required an application pursuant to section 28.3(c) from a national bank to join a foreign exchange, clearinghouse, or similar type of organization. In lieu of a notice, the OCC may accept a copy of an application, notice, or report submitted to another Federal agency that covers the proposed action and contains substantially the same information required by the OCC. A national bank shall furnish the OCC with any additional information the OCC may require in connection with the national bank's foreign operations.

12 CFR 28.12(a) Covered under Information Collection 1557-0014 (Comptroller's Licensing Manual) Approval of a Federal branch or agency—Approval and Licensing Requirements A foreign bank shall submit an application to, and obtain prior approval from the OCC before it establishes a Federal branch or agency, or exercises fiduciary powers at a Federal branch.

12 CFR 28.12(e)(2) Covered under Information Collection 1557-0014 (Comptroller's Licensing Manual) Approval of a Federal branch or agency—Written Notice for Additional Intrastate Branches or Agencies A foreign bank shall provide written notice to the OCC 30 days in advance of the establishment of an intrastate branch or agency.

12 CFR 28.12(h) Covered under Information Collection 1557-0014 (Comptroller's Licensing Manual) Approval of a Federal Branch or Agency—After-the-fact Notice for Eligible Foreign Banks A foreign bank proposing to establish a Federal branch or agency through the acquisition of, or merger or consolidation with, a foreign bank that has an existing bank subsidiary, branch, or agency, may proceed with the transaction and provide after-the-fact notice within 14 days of the transaction to the OCC if (1) the resulting bank is an “eligible foreign bank” within the meaning of § 28.12(f) and (2) no Federal branch established by the transaction accepts deposits insured by the FDIC.

12 CFR 28.12(i) Covered under Information Collection 1557-0014 (Comptroller's Licensing Manual) Approval of a Federal Branch or Agency—Contraction of Operations A foreign bank shall provide written notice to the OCC within 10 days after converting a Federal branch into a limited Federal branch or Federal agency.

12 CFR 28.14(c) Limitations Based upon Capital of a Foreign Bank—Aggregation The foreign bank shall aggregate business transacted by all Federal branches and agencies with the business transacted by all state branches and agencies controlled by the foreign bank in determining its compliance with limitations based upon the capital of the foreign bank. A foreign bank shall designate one Federal branch or agency office in the United States to maintain consolidated information so that the OCC can monitor compliance.

12 CFR 28.15(d), (d)(1), (d)(2), and (f) Capital Equivalency Deposits Deposit arrangements:

• A foreign bank should require its depository bank to segregate its capital equivalency deposits on the depository bank's books and records.

• The instruments making up the capital equivalency deposit that are placed in safekeeping at a depository bank to satisfy a foreign bank's capital equivalency deposit requirement must be maintained pursuant to an agreement prescribed by the OCC that shall be a written agreement entered into with the OCC.

• Each Federal branch or agency shall maintain a capital equivalency account and keep records of the amount of liabilities requiring capital equivalency coverage in a manner and form prescribed by the OCC.

• A foreign bank`s capital equivalency deposits may not be reduced in value below the minimum required for that branch or agency without the prior approval of the OCC, but in no event below the statutory minimum.

12 CFR 28.16(c) Deposit-taking by an Uninsured Federal branch—Application for an Exemption A foreign bank may apply to the OCC for an exemption to permit an uninsured Federal branch to accept or maintain deposit accounts that are not listed in paragraph (b) of this section. The request should describe:

• The types, sources, and estimated amount of such deposits and explain why the OCC should grant an exemption;

• How the exemption maintains and furthers the policies described in paragraph (a) of this section.

12 CFR 28.16(d) Deposit taking by an uninsured Federal branch—Aggregation of deposits A foreign bank that has more than one Federal branch in the same state may aggregate deposits in all of its Federal branches in that state, but exclude deposits of other branches, agencies or wholly owned subsidiaries of the bank. The Federal branch shall compute the average amount by using the sum of deposits as of the close of business of the last 30 calendar days ending with and including the last day of the calendar quarter, divided by 30. The Federal branch shall maintain records of the calculation until its next examination by the OCC.

12 CFR 28.17 Covered under Information Collection 1557-0014 (Comptroller's Licensing Manual) Notice of Change in Activity or Operations A Federal branch or agency shall notify the OCC if it changes its corporate title; changes its mailing address; converts to a state branch, state agency, or representative office; or the parent foreign bank changes the designation of its home state.

12 CFR 28.18(c)(1) Recordkeeping and Reporting—Maintenance of Accounts, Books, and Records Each Federal branch or agency shall maintain a set of accounts and records reflecting its transactions that are separate from those of the foreign bank and any other branch or agency. The Federal branch or agency shall keep a set of accounts and records in English sufficient to permit the OCC to examine the condition of the Federal branch or agency and its compliance with applicable laws and regulations.

28.20(a)(1) Maintenance of Assets—General Rule The OCC may require a foreign bank to hold certain assets in the state in which its Federal branch or agency is located.

12 CFR 28.22(b) Covered under Information Collection 1557-0014 (Comptroller's Licensing Manual) Voluntary Liquidation Notice to customers and creditors—A foreign bank shall publish notice of the impending closure of each Federal branch or agency for a period of two months in every issue of a local newspaper where the Federal branch or agency is located. If only weekly publication is available, the notice must be published for nine consecutive weeks.

12 CFR 28.22(e) Reports of Examination The Federal branch or agency shall send the OCC certification that all of its Reports of Examination have been destroyed or return its Reports of Examination to the OCC.

12 CFR 28.25(a) Covered under Information Collection 1557-0014 (Comptroller's Licensing Manual) Change in Control—After-the-fact Notice In cases where no other filing is required, a foreign bank that operates a Federal branch or agency shall inform the OCC in writing of the direct or indirect acquisition of control of the foreign bank by any person or entity, or group of persons or entities acting in concert, within 14 calendar days after the foreign bank becomes aware of a change in control.

12 CFR 28.52 Covered under Information Collection 1557-0081 (MA)—Reports of Condition and Income (Interagency Call Report), FFIEC 031, FFIEC 041 Allocated Transfer Risk Reserve A banking institution shall establish an allocated transfer risk reserve for specified international assets when required by the OCC in accordance with the requirements of the section.

12 CFR 28.54 Covered under Information Collection 1557-0100 Country Exposure Report and Country Exposure Information Report (FFIEC 009, FFIEC 009a) Reporting and Disclosure of International Assets A banking institution shall submit to the OCC, at least quarterly, information regarding the amounts and composition of its holdings of international assets. A banking institution shall submit to the OCC information regarding concentrations in its holdings of international assets that are material in relation to total assets and to capital of the institution.

Type of Review: Extension of a currently approved collection.

Affected Public: Individuals; Businesses or other for-profit.

Estimated Number of Respondents: 79.

Estimated Total Annual Responses: 117.

Frequency of Response: On occasion.

Estimated Total Annual Burden: 3,661.5

Comments submitted in response to this notice will be summarized, included in the request for OMB approval, and become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: January 13, 2012.
Michele Meyer,
Assistant Director, Legislative and Regulatory Activities Division.

[FR Doc. 2012-1017 Filed 1-19-12; 8:45 am]

BILLING CODE 4810-33-P